DEPARTMENT OF DEFENSE

Office of the Secretary

Defense Science Board; Notice of Federal Advisory Committee Meetings

AGENCY: Department of Defense.

ACTION: Notice of Federal Advisory Committee Meetings.

SUMMARY: The Defense Science Board (DSB) will meet in closed session on Wednesday, November 2, 2016, from 8:00 a.m. to 11:00 a.m. and 1:00 p.m. to 5:00 p.m. and Thursday, November 3, 2016, from 8:30 a.m. to 11:30 a.m. and 12:30 p.m. to 4:00 p.m. in the Nunn-Lugar conference room 3E863 at the Pentagon, Washington, DC.

DATES: November 2, 2016, from 8:00 a.m. to 5:00 p.m.; and November 3, 2016, from 8:30 a.m. to 4:00 p.m.

ADDRESSES: Nunn-Lugar conference room 3E863 at the Pentagon, Washington, DC.

FOR FURTHER INFORMATION CONTACT: Ms. Debra Rose, Executive Officer, Defense Science Board, 3140 Defense Pentagon, Room 3B888A, Washington, DC 20301-3140, via email at debra.a.rose20.civ@mail.mil, or via phone at (703) 571-0084 or the Defense Science Board Designated Federal Officer (DFO) Karen D.H. Saunders, Executive Director, Defense Science Board, 3140 Defense Pentagon, Room 3B888A, Washington, DC 20301, via email at karen.d.saunders.civ@mail.mil, or via phone at (703) 571-0079.

SUPPLEMENTARY INFORMATION: Due to difficulties beyond the control of the Department of Defense, the Designated Federal Officer was unable to submit the Federal Register notice pertaining to the Defense Science Board meeting for its scheduled meeting for November 2 through 3, that ensured compliance with the requirements of 41 CFR 102-3.150(a). Accordingly the Advisory Committee Management Officer for the Department of Defense waives the 15-calendar day notification requirement pursuant to 41 CFR 102-3.150(b).

This meeting is being held under the provisions of the Federal Advisory Committee Act (FACA) of 1972 (5 U.S.C., Appendix, as amended), the Government in the Sunshine Act of 1976 (5 U.S.C. 552b, as amended), and 41 CFR 102-3.150.

The mission of the DSB is to provide independent advice and recommendations on matters relating to the Department of Defense's (DoD) scientific and technical enterprise. The objective of the meeting is to obtain, review, and evaluate classified information related to the DSB's mission. DSB membership will meet with DoD Leadership to discuss current and future national security challenges within the Department. This meeting will focus on providing status and requesting additional input for current studies and proposed study topics on nuclear deterrence; rapid global tactical strike; cyber deterrence; military satellite communication and tactical networking; defense research enterprise assessment; achieving long-range military capabilities; and cyber supply chain. Additionally, it will provide background information on thoughts for study topics to help shape future study plans.

In accordance with section 10(d) of the FACA and 41 CFR 102-3.155, the DoD has determined that the DSB meeting will be closed to the public. Specifically, the Under Secretary of Defense (Acquisition, Technology, and Logistics), in consultation with the DoD Office of General Counsel, has determined in writing that all sessions will be closed to the public because it will consider matters covered by 5 U.S.C. 552b(c)(1). The determination is based on the consideration that it is expected that discussions throughout will involve classified matters of national security concern. To permit the meeting to be open to the public would preclude discussion of such matters and would greatly diminish the ultimate utility of the DSB's findings or recommendations to the Secretary of Defense and to the USD (AT&L).

In accordance with section 10(a)(3) of the FACA and 41 CFR 102-3.105(j) and 102-3.140, interested persons may submit a written statement for consideration by the DSB at any time regarding its mission or in response to the stated agenda of a planned meeting. Individuals submitting a written statement must submit their statement to the Defense Science Board Designated Federal Official (DFO) provided in the FOR FURTHER INFORMATION CONTACT section at any point; however, if a written statement is not received at least 3 calendar days prior to the meeting, which is the subject of this notice, then it may not be provided to or considered by the Defense Science Board until a later date.

Dated: October 25, 2016.
Aaron Siegel,
Alternate OSD Federal Register Liaison Officer, Department of Defense.

[FR Doc. 2016-26111 Filed 10-27-16; 8:45 am]

BILLING CODE 5001-06-P